FEDERAL COMMUNICATIONS COMMISSION

47 CFR Part 73

[DA 05-1148, MB Docket No. 02-289, RM-10526, RM-10771]

Radio Broadcasting Services; Idaho Falls and Iona, ID

AGENCY: Federal Communications Commission.

ACTION: Proposed rule; dismissal.

SUMMARY: The Audio Division, at the request of Scott D. Parker, dismisses the petition for rule making proposing the allotment of Channel 300C1 at Idaho Falls, Idaho, as the community's six local commercial FM transmission service (RM-10526). See 67 FR 63874, October 16, 2002. At the request of Sand Hill Media Corporation, we also dismiss the counterproposal proposing the substitution of Channel 299C1 for Channel 296C1, the reallotment of Channel 299C1 from Idaho Falls to Iona, Idaho, and the modification of Station KQEO(FM)'s license accordingly (RM-10771). A showing of continuing interest is required before a channel will be allotted. It is the Commission's policy to refrain from making an allotment to a community absent an expression of interest. Therefore, we will grant the requests to dismiss the Idaho Falls and Iona, Idaho petitions.

FOR FURTHER INFORMATION CONTACT: Sharon P. McDonald, Media Bureau, (202) 418-2180.

SUPPLEMENTARY INFORMATION: This is a synopsis of the Commission's Report and Order, MB Docket No. 02-289, adopted April 25, 2005, and released April 27, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 05-9293 Filed 5-10-05; 8:45 am]

BILLING CODE 6712-01-P